FEDERAL ELECTION COMMISSION

Sunshine Act Meeting

TIME AND DATE: Thursday, December 16, 2021 at 10:00 a.m.

PLACE: Virtual meeting. Note: Because of the Covid-19 pandemic, we will conduct the open meeting virtually. If you would like to access the meeting, see the instructions below.

STATUS: This meeting will be open to the public. To access the virtual meeting, go to the commission's website www.fec.gov and click on the banner to be taken to the meeting page.

MATTERS TO BE CONSIDERED:

Draft Advisory Opinion 2021-11: DSCC and DCCC

Draft Advisory Opinion 2021-13: Matthew P. Hoh

Audit Division Recommendation Memorandum on the Republican Party of Minnesota—Federal (A19-09)

Audit Division Recommendation Memorandum on the Connecticut Democratic State Central Committee (A19-19)

Election of Officers for 2022

Remarks and Employee Recognition by Chair Broussard

Management and Administrative Matters

CONTACT PERSON FOR MORE INFORMATION: Judith Ingram, Press Officer, Telephone: (202) 694-1220.

Authority: Government in the Sunshine Act, 5 U.S.C. 552b.

Vicktoria J. Allen,
Acting Deputy Secretary of the Commission.

[FR Doc. 2021-27034 Filed 12-9-21; 4:15 pm]

BILLING CODE 6715-01-P